DEPARTMENT OF AGRICULTURE

Commodity Credit Corporation

7 CFR Parts 1412, 1421, 1439, and 1480

2003 Agricultural Assistance Act—Crop Disaster Program and Livestock Assistance Program; Correction

AGENCIES: Commodity Credit Corporation, Farm Service Agency, USDA.

ACTION: Final rule; correction.

SUMMARY: This document contains a correction to the final rule published by the Commodity Credit Corporation on Thursday, June 26, 2003. The language in the preamble under the heading “Environmental Assessment” was incorrect. This document corrects that language to reflect the level of analysis performed by the agency prior to publication of that rule.

FOR FURTHER INFORMATION CONTACT: Virgil Ireland, USDA/FSA/DAFP/STOP 0517, 1400 Independence Avenue, SW, Washington, DC 20250-0517; telephone (202) 720-5103; facsimile (202) 690-3610; electronic mail: Virgil_Ireland@wdc.usda.gov.

Correction

Accordingly, in the final rule published on June 26, 2003 (68 FR 37936-37952) make the following correction.

On page 37936, in the third column, in the paragraph entitled Environmental Assessment, correct the entire paragraph to read as follows:

Environmental Assessment

The Agency is currently completing a draft programmatic environmental assessment (PEA) to analyze the potential impacts of this proposed action on the human environment in accordance with the provisions of the National Environmental Policy Act of 1969 (NEPA), 42 U.S.C. 4321 et seq., the regulations of the Council on Environmental Quality (40 CFR parts 1500-1508) and FSA's regulations for compliance with NEPA (7 CFR part 799). The draft PEA will be made available for public comment prior to completion of the final PEA.

Signed at Washington, DC, on September 12, 2003.
James R. Little,
Executive Vice President, Commodity Credit Corporation.

[FR Doc. 03-24352 Filed 9-25-03; 8:45 am]

BILLING CODE 3410-05-P